DEPARTMENT OF LABOR

Office of the Secretary

Submission for OMB Review: Comment Request

July 13, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills at the Department of Labor on 202-693-4122 (this is not a toll-free number) or E-Mail: Mills.Ira@dol.gov. This ICR can also be accessed online at http://www.doleta.gov/OMBCN/OMBControlNumber.cfm.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Statement of Expenditures and Financial Adjustment of Federal Funds for Unemployment Compensation for Federal Employees and Ex-Servicemembers.

OMB Number: 1205-0162.

Frequency: Quarterly.

Affected Public: State, Local, or Tribal Government.

Type of Response: Recordkeeping; Reporting.

Total Annualized Capital/Startup Costs: 0.

Total Annual Costs (operating/maintaining systems or purchasing services): 0.

Description: Federal and military agencies must reimburse the Federal Employees Compensation Account for the amount expended for benefits to former Federal (civilian) employees and ex-servicemembers. The report informs ETA of the amount to bill such agencies.

Ira L. Mills,
Departmental Clearance Officer/Team Leader.

[FR Doc. E6-11446 Filed 7-18-06; 8:45 am]

BILLING CODE 4510-30-P